DEPARTMENT OF LABOR

Employment and Training Administration

[TA-W-72,718; TA-W-72,718A; TA-W-72,718B]

Briggs & Stratton Power Products Group, LLC., Home Power Division, a Subsidiary of Briggs & Stratton Corporation Including On-Site Leased Workers of Lifestyle Staffing, Adecco, Techstaff, The Alaris Group, and Aerotek, Jefferson, WI; Briggs & Stratton Power Products Group, LLC., Home Power Division, Schweiger Warehouse, a Subsidiary of Briggs & Stratton Corporation Including On-Site Leased Workers of Lifestyle Staffing, Adecco, Techstaff, The Alaris Group, and Aerotek, Jefferson, WI; Briggs & Stratton Power Products Group, LLC., Home Power Division, a Subsidiary of Briggs & Stratton Corporation Including On-Site Leased Workers of Lifestyle Staffing, Adecco, Techstaff, The Alaris Group, and Aerotek, Watertown, WI; Amended Certification Regarding Eligibility To Apply for Worker Adjustment Assistance

In accordance with Section 223 of the Trade Act of 1974, as amended (“Act”), 19 U.S.C. 2273, the Department of Labor issued a Certification of Eligibility to Apply for Worker Adjustment Assistance on January 11, 2010, applicable to workers of Briggs & Stratton Power Products Group, LLC., Home Power Division, a subsidiary of Briggs & Stratton Corp., including on-site leased workers of Lifestyle Staffing, Adecco, TechStaff, The Alaris Group, and Aerotek, Jefferson, Wisconsin. The notice was published in the Federal Register on February 16, 2010 (75 FR 7036).

At the request of the State agency and a company official, the Department reviewed the certification for workers of the subject firm. The workers are engaged in the production of portable generators, home stand-by generators and pressure washers.

New findings show that worker separations occurred during the relevant time period at two other facilities under the Home Power Division of the subject firm; Schweiger Warehouse, Jefferson, Wisconsin and the Watertown, Wisconsin locations.

Accordingly, the Department is amending the certification to include workers of the Schweiger Warehouse, Jefferson, Wisconsin and the Watertown, Wisconsin locations of Briggs & Stratton Power Products Group LLC., Home Power Division, a subsidiary of Briggs & Stratton Corporation.

The intent of the Department's certification is to include all workers of the subject firm who were adversely affected by customer imports of portable generators, home stand-by generators and pressure washers.

The amended notice applicable to TA-W-72,718, TA-W-72, 718A and TA-W-72,718B are hereby issued as follows:

All workers of Briggs & Stratton Power Products Group, LLC., Home Power Division, a subsidiary of Briggs & Stratton Corporation, including on-site leased workers of Lifestyle Staffing, Adecco, TechStaff, The Alaris Group, and Aerotek, Jefferson, Wisconsin (TA-W-72,718), Briggs & Stratton Power Products Group, LLC., Home Power Division, Schweiger Warehouse, a subsidiary of Briggs & Stratton Corporation, including on-site leased workers of Lifestyle Staffing, Adecco, TechStaff, The Alaris Group, and Aerotek, Jefferson, Wisconsin (TA-W-72,718A), Briggs & Stratton Power Products Group, LLC., Home Power Division, a subsidiary of Briggs & Stratton Corporation, including on-site leased workers of Lifestyle Staffing, Adecco, TechStaff, The Alairis Group, and Aerotek, Watertown, Wisconsin (TA-W-72,718B), who became totally or partially separated from employment on or after October 29, 2008, through January 11, 2012, and all workers in the group threatened with total or partial separation from employment on date of certification through two years from the date of certification, are eligible to apply for adjustment assistance under Chapter 2 of Title II of the Trade Act of 1974, as amended.

Signed in Washington, DC, this 22nd day of February 2010.
Elliott S. Kushner,
Certifying Officer, Division of Trade Adjustment Assistance.

[FR Doc. 2010-4575 Filed 3-4-10; 8:45 am]

BILLING CODE 4510-FN-P